DEPARTMENT OF TRANSPORTATION

Surface Transportation Board

[STB Finance Docket No. 35146]

Union Pacific Railroad Company—Temporary Trackage Rights Exemption—Illinois and Midland Railroad Company

Illinois and Midland Railroad Company (IMRR) has agreed to grant temporary overhead trackage rights to Union Pacific Railroad Company (UP) over IMRR's line between milepost 83.7 to milepost 87.1, a total distance of approximately 3.4 miles in Springfield, IL.¹

¹ UP concurrently filed, in STB Finance Docket No. 35145, a Verified Notice of Exemption for temporary overhead trackage rights via Illinois Central Railroad Company (CN). Together, the temporary trackage rights via IMRR and CN will form a contiguous route which would allow UP traffic to detour around maintenance-of-way activities on UP's line in Springfield, IL.

The transaction is scheduled to be consummated on June 18, 2008, the effective date of this exemption (30 days after the exemption was filed). The temporary trackage rights will expire on or about June 30, 2008. The purpose of the temporary trackage rights is to facilitate the performance of maintenance work on UP lines.

As a condition to this exemption, any employee affected by the acquisition of the temporary trackage rights will be protected by the conditions imposed in Norfolk and Western Ry. Co.—Trackage Rights—BN, 354 I.C.C. 605 (1978), as modified in Mendocino Coast Ry., Inc.—Lease and Operate, 360 I.C.C. 653 (1980), and any employee affected by the discontinuance of those trackage rights will be protected by the conditions set out in Oregon Short Line R. Co.—Abandonment—Goshen, 360 I.C.C. 91 (1979).

This notice is filed under 49 CFR 1180.2(d)(8). If it contains false or misleading information, the exemption is void ab initio. Petitions to revoke the exemption under 49 U.S.C. 10502(d) may be filed at any time. The filing of a petition to revoke will not automatically stay the transaction. Any stay petition must be filed on or before June 11, 2008 (at least 7 days before the exemption becomes effective).

Pursuant to the Consolidated Appropriations Act, 2008, Public Law No. 110-161, § 193, 121 Stat. 1844 (2007), nothing in this decision authorizes the following activities at any solid waste rail transfer facility: Collecting, storing, or transferring solid waste outside of its original shipping container; or separating or processing solid waste (including baling, crushing, compacting, and shredding). The term “solid waste” is defined in section 1004 of the Solid Waste Disposal Act, 42 U.S.C. 6903.

An original and 10 copies of all pleadings, referring to STB Finance Docket No. 35146, must be filed with the Surface Transportation Board, 395 E Street, SW., Washington, DC 20423-0001. In addition, a copy of each pleading must be served on Gabriel S. Meyer, Union Pacific Railroad Company, 1400 Douglas Street, STOP 1580, Omaha, NE 68179.

Board decisions and notices are available on our Web site at http://www.stb.dot.gov.

Decided: May 28, 2008.
By the Board, David M. Konschnik, Director, Office of Proceedings.
Anne K. Quinlan,
Acting Secretary.

[FR Doc. E8-12423 Filed 6-3-08; 8:45 am]

BILLING CODE 4915-01-P